FEDERAL HOUSING FINANCE BOARD

12 CFR Part 936

[No. 2000-04]

RIN 3069-AA95

Information Collection Approval; Technical Amendment to Community Support Requirements Rule

AGENCY: Federal Housing Finance Board.

ACTION: Final rule.

SUMMARY: Under the Paperwork Reduction Act of 1995 (Act), the Office of Management and Budget (OMB) has approved a three-year extension of the information collection contained in the Federal Housing Finance Board's (Finance Board) community support requirements regulation and community support statement form. The OMB control number approving the information collection now expires on January 31, 2003. In accordance with the requirements of the Act, the Finance Board is amending the community support requirements rule to reflect this new expiration date.

EFFECTIVE DATE: The final rule will become effective on February 7, 2000.

FOR FURTHER INFORMATION CONTACT: Emma J. Fitzgerald, Program Analyst, Program Assistance Division, Office of Policy, Research and Analysis, by telephone at 202/408-2874, by electronic mail at FITZGERALDE@FHFB.GOV, or by regular mail at the Federal Housing Finance Board, 1777 F Street, N.W., Washington, D.C. 20006. A telecommunications device for deaf persons (TDD) is available at 202/408-2579.

SUPPLEMENTARY INFORMATION:

I. Background

In order to extend the expiration date of the OMB control number approving the information collection contained in its community support requirements regulation and community support statement form, the Finance Board published requests for public comments regarding the information collection in the Federal Register on June 30 and November 15, 1999. See 64 FR 35157 (June 30, 1999) and 64 FR 61877 (Nov. 15, 1999). The Finance Board also submitted an analysis of the information collection, entitled “Community Support Requirements,” to the OMB for review and approval. The OMB has approved a three-year extension of the information collection under OMB control number 3069-0003. The OMB control number now expires on January 31, 2003.

Under the Act and the OMB's implementing regulation, 44 U.S.C. 3507 and 5 CFR 1320.5, an agency may not sponsor or conduct, and a person is not required to respond to, an information collection unless the regulation or form collecting the information displays a currently valid OMB control number. Accordingly, the Finance Board is amending the community support requirements rule and community support statement form to reflect the new expiration date of the OMB control number.

II. Notice and Public Participation

Because the effectiveness of the information collection contained in the community support requirements rule and community support statement form must be maintained, the Finance Board for good cause finds that the notice and public procedure requirements of the Administrative Procedures Act are impracticable, unnecessary, or contrary to the public interest. See 5 U.S.C. 553(b)(3)(B).

III. Effective Date

For the reasons stated in part II above, the Finance Board for good cause finds that the final rule should become effective on February 7, 2000. See 5 U.S.C. 553(d)(3).

IV. Regulatory Flexibility Act

The provisions of the Regulatory Flexibility Act do not apply since this technical amendment to the community support requirements rule does not require publication of a notice of proposed rulemaking. See 5 U.S.C. 601(2) and 603(a).

V. Paperwork Reduction Act

The rule does not contain any collections of information pursuant to the Paperwork Reduction Act of 1995. See 44 U.S.C. 3501 et seq. Consequently, the Finance Board has not submitted any information to the Office of Management and Budget for review.

List of Subjects in 12 CFR Part 936

Credit, Federal home loan banks, Housing, Reporting and recordkeeping requirements.

For the reasons stated in the preamble, the Finance Board hereby amends 12 CFR part 936 as follows:

PART 936—COMMUNITY SUPPORT REQUIREMENTS

1. Revise the authority citation for part 936 to read as follows:

Authority: 12 U.S.C. 1422a(a)(3)(B), 1422b(a)(1), and 1430(g).

§§ 936.2, 936.3, 936.5 [Amended]

2. Revise the parenthetical statement that appears after §§ 936.2, 936.3, and 936.5 to read as follows:

(The Office of Management and Budget has approved the information collection contained in this section and assigned control number 3069-0003 with an expiration date of January 31, 2003.)

§ 936.4 [Amended]

3. Add a parenthetical statement immediately after § 936.4 to read as follows:

(The Office of Management and Budget has approved the information collection contained in this section and assigned control number 3069-0003 with an expiration date of January 31, 2003.)

By the Board of Directors of the Federal Housing Finance Board.
Dated: January 27, 2000.
Bruce A. Morrison,
Chairman.

[FR Doc. 00-2544 Filed 2-4-00; 8:45 am]

BILLING CODE 6725-01-P